ENVIRONMENTAL PROTECTION AGENCY

40 CFR Part 52

[EPA-R07-OAR-2025-0200; FRL-12750-01-R7]

Air Plan Approval; IA; Alter Metal Recycling Permit Modification

AGENCY: Environmental Protection Agency (EPA).

ACTION: Proposed rule.

SUMMARY: The Environmental Protection Agency (EPA) is proposing approval of revisions to the Iowa State Implementation Plan (SIP) to include a permit modification for Alter Metal Recycling. The SIP revision addresses modifications to the air construction permit for Alter Metal Recycling included in the State's 2008 Lead (Pb) National Ambient Air Quality Standards (NAAQS) attainment plan for portions of Council Bluffs, Pottawattamie County, IA. These revisions do not impact the stringency of the SIP or have an adverse effect on air quality. The EPA's proposed approval of this rule revision is being done in accordance with the requirements of the Clean Air Act (CAA).

DATES: Comments must be received on or before July 3, 2025.

ADDRESSES: You may send comments, identified by Docket ID No. EPA-R07-OAR-2025-0200 to https://www.regulations.gov. Follow the online instructions for submitting comments.

Instructions: All submissions received must include the Docket ID No. for this rulemaking. Comments received will be posted without change to https://www.regulations.gov, including any personal information provided. For detailed instructions on sending comments and additional information on the rulemaking process, see the “Written Comments” heading of the SUPPLEMENTARY INFORMATION section of this document.

FOR FURTHER INFORMATION CONTACT: Bethany Olson, Environmental Protection Agency, Region 7 Office, Air Quality Planning Branch, 11201 Renner Boulevard, Lenexa, Kansas 66219; telephone number: (913) 551-7905; email address: olson.bethany@epa.gov.

SUPPLEMENTARY INFORMATION: Throughout this document “we,” “us,” and “our” refer to the EPA.

Table of Contents

I. Written Comments

II. What is being addressed in this document?

III. Have the requirements for approval of a SIP revision been met?

IV. What action is the EPA taking?

V. Incorporation by Reference

VI. Statutory and Executive Order Reviews

I. Written Comments

Submit your comments, identified by Docket ID No. EPA-R07-OAR-2025-0200, at https://www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

II. What is being addressed in this document?

The EPA is proposing to approve revisions to the Iowa SIP received on October 23, 2017. Iowa Department of Natural Resources (IDNR) requested to replace a SIP-approved air construction permit with a modified permit at Alter Metal Recycling in Council Bluffs, Pottawattamie County, IA. The state's SIP submission requested that the EPA not act on Condition 11 of the permit, and accordingly that condition is not included in this action. Condition 11 references 567 Iowa Administrative Code (IAC) Chapter 24.1(1) pertaining to excess emissions during periods of startup, shutdown, or cleaning of control equipment.

On October 15, 2008, EPA promulgated a revision to the Pb NAAQS, lowering the standard from 1.5 micrograms per cubic meter (µg/m³) to 0.15 µg/m³ (73 FR 66963). EPA designated a portion of Pottawattamie County, Council Bluffs, Iowa, as nonattainment for the 2008 Pb NAAQS (76 FR 72097) effective December 31, 2011. The air construction permit for Alter Metal Recycling was included in the 2008 Lead NAAQS attainment plan, which was approved by EPA on February 26, 2016 (81 FR 9770). The Alter Metal Recycling permit controls fugitive dust emissions through a Reasonably Available Control Technology (RACT) limit, work practice standards, limits truck traffic and total material shipped, and requires silt load sampling. The permit also contains contingency measures if there is a monitored exceedance of the Pb NAAQS. The area attained the 2008 Pb NAAQS by the statutory deadline of December 31, 2016, and the EPA approved Iowa's redesignation and maintenance plan on October 4, 2018 (83 FR 50024).

IDNR continues to conduct ambient air monitoring for Pb in the Council Bluffs area near Pb emitting facilities. According to 40 CFR part 50, appendix R, the 2008 Pb NAAQS is met at a monitoring site when the identified design value is valid and is less than or equal to 0.15 µg/m³. The form of the standard is based on the maximum three-month rolling average over a three-year period (thirty-six rolling calendar quarters, or thirty-eight total months). The design value is the highest Pb concentration recorded for a rolling three-month calendar quarter over a three-year period. The area has not recorded a violation of the NAAQS since it was redesignated. The most recent valid design value for the area is 0.08 µg/m³ for the 2018-2020 period. A Pb design value that meets the NAAQS is considered valid if it encompasses 36 consecutive valid 3-month site means. Data loss associated with a new sampling instrument in December 2021 prevented the calculation of valid 3-month site means for December 2021 through February 2022, causing the area to have invalid design values for each three-year period since the 2018-2020 period.¹ The most recent, though incomplete, data indicates a maximum three-month rolling average of 0.12 µg/m³ for the 2021-2023 period.

¹ See section “Lead Monitoring Network Analysis” of the Iowa Ambient Air Monitoring 2024 Network Plan, included in the docket for this action.

The SIP-approved construction permit #A-14-521 required Alter Metal Recycling to conduct surface silt load sampling on haul routes internal to the facility boundaries at three locations to demonstrate that the total silt load content on roadways is less than 2.70 g/m². Section 14 of the SIP-approved permit provided that Alter Metal Recycling could request a reduced sampling frequency if it met this silt load limit for 12 consecutive months. As detailed in Iowa's October 23, 2017, letter requesting approval of #A-14-521-S1 into the SIP, data submitted by Alter Metal Recycling demonstrated compliance between October 2014 and November 2016. Accordingly, the permit modification reduces the frequency of required silt load sampling from monthly to quarterly.

The permit modification also adds additional contingency measures if monitored exceedance of the lead NAAQS occurs during months in which inclement weather provisions applied. The SIP-approved permit does not require the facility to sweep if there has been 0.2 inches of rain within a twenty-four-hour period, the haul routes have not been used that day, the ambient air temperature is less than thirty-five degrees Fahrenheit, or the conditions due to weather could create hazardous driving conditions. In the modified permit, if the facility receives notification from IDNR that a monitored exceedance of the NAAQS occurs during months in which the inclement weather provision applied, the facility is required to implement good housekeeping practices, including but not limited to, daily removal of material piles that have accumulated on haul road surfaces and decreasing vehicle speeds on paved road surfaces from 20 mph to 5 mph. The modified permit further requires the owner or operator to continue good housekeeping practices on paved road surfaces until sweeping resumes.

Finally, this action will also make administrative updates to the permit number and removes compliance dates that have already passed. The permitted emission limits, work practice standards, control measures, and reporting and recordkeeping requirements remain unchanged.

As discussed above, in accordance with SIP-approved permit #14-A-521, Alter Metal Recycling requested a reduced silt load sampling frequency from monthly to quarterly. IDNR granted Alter Metal's request and issued permit modification #14-A-521-S1, which also includes modifications to the contingency measures that are more protective of air quality during inclement weather. In addition, the permit modification does not increase potential lead emissions and retains all measures necessary to attain and maintain the 2008 lead NAAQS. For these reasons, the EPA proposes to find that this SIP revision will not interfere with any applicable requirement concerning attainment and reasonable further progress (as defined in section 171 of the CAA), or any other applicable requirement of the CAA as required under section 110(l) of the Act. Accordingly, EPA proposes to remove permit #14-A-521 from the SIP and replace it with permit #14-A-521-S1. The full permit and the State's submission can be found in the docket for this action.

III. Have the requirements for approval of a SIP revision been met?

The State submission has met the public notice requirements for SIP submissions in accordance with 40 CFR 51.102. The submission also satisfied the completeness criteria of 40 CFR part 51, appendix V. The State provided public notice on this SIP revision from May 25, 2017, to June 27, 2017, and held a public hearing on June 27, 2017. The State received no comments. In addition, as explained above, the revision meets the substantive SIP requirements of the CAA, including section 110 and implementing regulations.

IV. What action is the EPA taking?

The EPA is proposing to amend the Iowa SIP by approving the State's request to modify the SIP-approved permit for Alter Metal Recycling. We are processing this as a proposed action because we are soliciting comments on this proposed action. Final rulemaking will occur after consideration of any comments.

V. Incorporation by Reference

In this document, the EPA is proposing to include regulatory text in an EPA final rule that includes incorporation by reference. In accordance with requirements of 1 CFR 51.5, the EPA is proposing to delete Iowa permit #14-A-521 and add incorporation by reference of the Iowa permit #14-A-521-S1 discussed in section II of this preamble and as set forth below in the proposed amendments to 40 CFR part 52. The EPA has made, and will continue to make, these materials generally available through https://www.regulations.gov and at the EPA Region 7 Office (please contact the person identified in the FOR FURTHER INFORMATION CONTACT section of this preamble for more information).

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 25, 2025.
James Macy,
Regional Administrator, Region 7.

For the reasons stated in the preamble, the EPA proposes to amend 40 CFR part 52 as set forth below:

PART 52—APPROVAL AND PROMULGATION OF IMPLEMENTATION PLANS

1. The authority citation for part 52 continues to read as follows:

Authority: 42 U.S.C. 7401 et seq.

Subpart Q—Iowa

2. In § 52.820, the table in paragraph (d) is amended by revising the entry “(111)” to read as follows:

§ 52.820 Identification of plan.

* * * * *

(d) * * *

EPA-Approved Iowa Source-Specific Orders/Permits
Name of source | Order/permit No. | State effective date | EPA approval date | Explanation
* * * * * * *
(111) Alter Metal Recycling | Permit No. 14-A-521-S1 | 6/30/2017 | [Date of publication of the final rule in the Federal Register], 90 FR [Federal Register page where the document begins of the final rule] | 2008 Pb NAAQS Attainment Plan; condition 11 of the permit is not part of the SIP.
* * * * * * *

* * * * *

[FR Doc. 2025-10038 Filed 6-2-25; 8:45 am]

BILLING CODE 6560-50-P